COMMISSION ON CIVIL RIGHTS

Notice of Public Meeting of the Colorado Advisory Committee; Revision of Meeting Date, Time, and Zoom Link

AGENCY: Commission on Civil Rights.

ACTION: Notice; Revision of Meeting Date, Time, and Zoom Link.

SUMMARY: The Commission on Civil Rights published a notice in the Federal Register concerning a meeting of the Colorado Advisory Committee. The meeting on Wednesday, June 19, 2024, at 3:00 p.m. (MT) is now scheduled for the following Wednesday, June 26, 2024, at 10:00 a.m. (MT). The revised Zoom meeting details are: https://tinyurl.com/zcb99vzz; USA toll-free phone: 1-833 435 1820; Meeting ID: 160 614 2807#. The notice is in the Federal Register of Monday, April 22, 2024, in FR Doc. 2024-08554, in the third column of page 29284, and the first and second columns of 29285.

FOR FURTHER INFORMATION CONTACT: Barbara Delaviez, 202-539-8246, bdelaviez@usccr.gov.

Dated: June 21, 2024.
David Mussatt,
Supervisory Chief, Regional Programs Unit.

[FR Doc. 2024-13992 Filed 6-25-24; 8:45 am]

BILLING CODE P